DEPARTMENT OF COMMERCE

National Oceanic and Atmospheric Administration

RIN 0648-XE921

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will take place on Monday, October 17 through Thursday, October 20, 2016.

ADDRESSES: The meeting will be held at the IP Casino hotel, located at 850 Bayview Avenue, Biloxi, MS 39530; telephone: (228) 436-3000.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, October 17, 2016; 8:30 a.m.-5:30 p.m.

The Full Council will be convened to a review and adopt the proposed 2016-17 Council Committee Roster. The Data Collection Management Committee will receive a presentation on National Fish and Wildlife Foundation's (NFWF) For-Hire Pilot Program; and For-hire reporting Requirements; Cost analysis and Reporting Requirements of Commercial Electronic Reporting Program. After lunch, the Shrimp Management Committee will receive an update on NMFS Turtle Excluder Devise (TED) Rule; Risk Assessment for Threshold Permit Numbers Relative to Sea Turtle Incidental Take Constraints; and review of Revised Options paper for Shrimp Amendment 17B. The Administrative/Budget Committee will review the State, Federal and Council Annual Leave Policies. The Mackerel Management Committee will review a Public Hearing Draft for CMP Amendment 29: Allocation Sharing and Accountability for Gulf King Mackerel; review Final Action—CMP Framework Amendment 5: Modifications to Pelagic Commercial Permit Restrictions in the Gulf of Mexico and Atlantic; and Final Action on CMP Amendment 30: Atlantic Cobia Recreational Fishing Year. The Full Council in a CLOSED SESSION (approximately 4:45 p.m.-5:45 p.m.) will review and select appointments for the Ad Hoc Private Recreational Advisory Panel (AP).

Tuesday, October 18, 2016; 8 a.m.-5:30 p.m.

The Reef Fish Management Committee will review the proposed regulations on the Flower Garden Banks National Marine Sanctuary; SEDAR 47 Goliath Grouper Benchmark Assessment; Draft Framework Action on Mutton Snapper ACL and Management Measures and Gag Commercial Size Limit. Review Draft Amendment 42: Reef Fish Recreational Management for Headboat Survey Vessels; and, Final Action—Referendum Requirements for Amendment 42. Review the preliminary 2016 Red Snapper For-hire Landings Relative to Acceptable Catch Target (ACT); review Draft Amendment 46—Gray Triggerfish Rebuilding Plan and Draft Amendment 41—Red Snapper Management for Federally Permitted Charter Vessels.

Wednesday, October 19, 2016; 8 a.m.-5:30 p.m.

The Reef Fish Management Committee will review draft Amendment 36A—Modifications to Commercial Individual Fishing Quota (IFQ) programs; and receive a summary on the Standing and Special Reef Fish Scientific and Statistical Committee (SSC) and Reef Fish Advisory Panel meetings. The Joint Coral/Habitat Committee will review the Final Draft of 5-year EFH Review and scoping document for Coral Habitat Areas of Particular Concern (HAPCs). The Law Enforcement Committee will review and approve the Law Enforcement Operations and Strategic Plans; and receive a summary from the Law Enforcement Technical Committee meeting.

The Full Council will convene after lunch (approximately 1 p.m.) with Call to Order, Announcements, and Introductions; and review of Exempt Fishing Permit (EFPs) Applications, if any. The Council will receive presentations on Draft Highly Migratory Species (HMS) Amendments 5b and 10; Climate Vulnerability Analysis for Gulf Managed Stocks; Mississippi Law Enforcement Efforts; and NMFS-SERO Landing Summaries. The Council will receive public testimony from 2:45 p.m. until 5:30 p.m. on Agenda Testimony items: Final Action on Framework Action 5: To Remove the Prohibition on Retaining the Recreational King Mackerel Bag Limit with Commercial King Mackerel Permit; Final Action on Referendum Requirements for Reef Fish Amendment 42—Reef Fish Management for Headboat Survey Vessels; on proposed fishing regulations on the Flower Garden Banks National Marine Sanctuary; and Final Action on CMP Amendment 30: Atlantic Cobia Recreational Fishing Year; and, hold an open public testimony period regarding any other fishery issues or concern. Anyone wishing to speak during public comment should sign in at the registration station located at the entrance to the meeting room.

Thursday, October 20, 2016; 8 a.m.-3:30 p.m.

The Full Council will receive committee reports from Data Collection, Mackerel, Shrimp and the Administrative/Budget Management Committees. The Full Council will receive the Closed Session Report on Ad Hoc Private Recreational Angler AP Membership and Discuss the Charge of the AP. The Council will continue to receive committee reports from Law Enforcement, Reef Fish and Joint Coral/Habitat Management Committees; and, vote on Exempted Fishing Permit (EFP) applications, if any. The Council will receive updates from supporting agencies: South Atlantic Fishery Management Council; Gulf States Marine Fisheries Commission; U.S. Coast Guard; U.S. Fish and Wildlife Service; and, the Department of State.

Lastly, the Council will discuss any Other Business items.

—Meeting Adjourns—

The timing and order in which agenda items are addressed may change as required to effectively address the issue. The latest version will be posted on the Council's file server, which can be accessed by going to the Council's Web site at http://www.gulfcouncil.org and clicking on FTP Server under Quick Links. For meeting materials, select the “Briefing Books/Briefing Book 2016-10” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: September 27, 2016.
Tracey L. Thompson,
Acting Deputy Director, Office of Sustainable Fisheries, National Marine Fisheries Service.

[FR Doc. 2016-23699 Filed 9-29-16; 8:45 am]

BILLING CODE 3510-22-P